EXPORT-IMPORT BANK

[Public Notice 2012-0547]

Agency Information Collection Activities: Final Collection; Comment Request

AGENCY: Export-Import Bank of the U.S.

ACTION: Submission for OMB review and comments request.

Form Title: EIB 99-17 Enhanced Assignment of Policy Proceeds.

SUMMARY: The Export-Import Bank of the United States (Ex-Im Bank), as a part of its continuing effort to reduce paperwork and respondent burden, invites the general public and other Federal Agencies to comment on the proposed information collection, as required by the Paperwork Reduction Act of 1995.

The form represents the exporter's directive to Ex-Im Bank to whom and where the insurance proceeds should be sent, and also describes the duties and obligations that have to be met by the financial institution in order to share in the policy proceeds. The form is typically part of the documentation required by financial institution lenders in order to provide financing of an exporter's foreign accounts receivable. Foreign accounts receivable insured by Ex-Im Bank represent stronger collateral to secure the financing. By recording which policyholders have completed this form, Ex-Im Bank is able to determine how many of its exporter policyholders require Ex-Im Bank insurance policies to support lender financing.

The form can be viewed at www.exim.gov/pub/pending/eib99-17.pdf.

DATES: Comments should be received on or before February 12, 2013 to be assured of consideration.

ADDRESSES: Comments maybe submitted electronically on www.regulations.gov or by mail to Arnold Chow, Export Import Bank of the United States, 811 Vermont Ave. NW., Washington, DC 20571.

SUPPLEMENTARY INFORMATION: Titles and Form Number: EIB 99-17 Enhanced Assignment of Policy Proceeds.

OMB Number: 3048-xxxx.

Type of Review: New.

Need and Use: This collection of information is used by exporters to convey legal rights to, and describe the duties and obligations that have to be met by their financial institution lender in order to share insurance policy proceeds from Ex-Im Bank approved insurance claims. Affected Public: This form affects entities involved in the export of U.S goods and services.

Annual Number of Respondents: 15.

Estimated Time per Respondent: 15 minutes.

Number of forms reviewed by Ex-Im Bank: 15.

Government Annual Burden Hours: 15 hours.

Government Cost: $620.

Frequency of Reporting or Use: Annually.

Sharon A. Whitt,
Agency Clearance Officer.

[FR Doc. 2012-30179 Filed 12-13-12; 8:45 am]

BILLING CODE 6690-01-P